DEPARTMENT OF COMMERCE

National Oceanic and Atmospheric Administration

[RTID 0648-XF505]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet March 3-9, 2026 in Sacramento, California and via webinar. The Council meeting will be live streamed with the opportunity to provide public comment remotely.

DATES: The Pacific Council and its advisory bodies will meet March 3-9, 2026. The Pacific Council meeting will begin on Thursday, March 5, 2026, at 9 a.m. Pacific Time (PT), reconvening at 8 a.m. on Friday, March 6 through Monday, March 9, 2026. All meetings are open to the public, except for a Closed Session held from 8 a.m. to 9 a.m., Thursday, March 5, to address litigation and personnel matters. The Pacific Council will meet as late as necessary each day to complete its scheduled business.

ADDRESSES: Meetings of the Pacific Council and its advisory entities will be held at the DoubleTree by Hilton Sacramento at 2001 Point West Way in Sacramento, California 95815 Telephone number 916-924-4900. Specific meeting information, including directions on joining the meeting, connecting to the live stream broadcast, and system requirements will be provided in the meeting announcement on the Pacific Council's website (see www.pcouncil.org). You may send an email to Mr. Hayden York (hayden.york@pcouncil.org) or contact him at (503) 820-2424 for technical assistance.

Council address: Pacific Fishery Management Council, 7700 NE Ambassador Place, Suite 101, Portland, OR 97220-1384.

FOR FURTHER INFORMATION CONTACT: Mr. Merrick Burden, Executive Director, Pacific Council; telephone: (503) 820-2280 or (866) 806-7204 toll-free, or access the Pacific Council website, www.pcouncil.org, for the proposed agenda and meeting briefing materials.

SUPPLEMENTARY INFORMATION: The March 5-9, 2026 meeting of the Pacific Council will be streamed live on the internet. The broadcasts begin initially at 9 a.m. PT Thursday, March 5, 2026, and 8 a.m. PT Friday, March 6 through Monday, March 9, 2026. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final” refer to actions the Council may take requiring the transmission of a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance March 2026 briefing materials and posted on the Pacific Council website at www.pcouncil.org no later than Friday, February 13, 2026.

A. Call to Order

1. Opening Remarks

2. Roll Call

3. Agenda

4. Executive Director's Report

B. Open Comment Period

1. Comments on Non-Agenda Items

C. Salmon Management

1. National Marine Fisheries Service Report

2. Review of 2025 Fisheries and Summary of 2026 Stock Forecasts

3. Identify Management Objectives and Preliminary 2026 Management Alternatives

4. 2026 Management Alternative Analysis Recommendations

5. Further Direction for 2026 Management Alternatives

6. Adopt 2026 Management Alternatives for Public Review

7. Appoint Salmon Hearing Officers

D. Groundfish Management

1. National Marine Fisheries Service Report

2. Adopt Stock Assessments

3. Phase 2 Stock Definitions: Remaining Nearshore Species—Final Action

4. Widow Rockfish Alternative Harvest Control Rule: Problem Statement, Range of Alternatives

5. Inseason Adjustments—Final Action

6. Initial Harvest Specifications for 2027-28

7. Implementation of the 2026 Pacific Whiting Fishery under the U.S./Canada Agreement

8. Initial Stock Assessment Plan for 2027 and 2029

9. 2027-28 Stock Assessment Terms of Reference—Scoping

10. 2027-28 Fisheries—Analytical Update and Limited Actions

E. Ecosystem Management

1. California Current Ecosystem Annual Status Report and 2026 Science Review Topics

2. Special Project 3: Workshop to Develop New Fishing Systems

F. Habitat Issues

1. Current Habitat Issues

G. Highly Migratory Species Management

1. National Marine Fisheries Service Report

2. International Management Activities

3. Exempted Fishing Permits—Preliminary or Final

4. Highly Migratory Species Roadmap: Exempted Fishing Permit Metrics and Benchmarks—Final

H. Pacific Halibut Management

1. Incidental Limits: Salmon Troll Options and Fixed Gear Sablefish Final Action

I. Administrative Matters

1. Approve Meeting Record

2. Membership Appointments and Council Operating Procedures

3. Future Council Meeting Agenda and Workload Planning

Advisory Body Agendas

Advisory body agendas will include discussions of relevant issues that are on the Pacific Council agenda for this meeting and may also include issues that may be relevant to future Council meetings. Proposed advisory body agendas for this meeting will be available on the Pacific Council website, www.pcouncil.org, no later than Friday, February 13, 2026 by the end of the business day.

Schedule of Ancillary Meetings

Day 1—Tuesday, March 3, 2026

Scientific and Statistical Committee 8 a.m.

Day 2—Wednesday, March 4, 2026

Groundfish Advisory Subpanel 8 a.m.

Groundfish Management Team 8 a.m.

Salmon Advisory Subpanel 8 a.m.

Salmon Technical Team 8 a.m.

Scientific and Statistical Committee 8 a.m.

Ecosystem Advisory Subpanel 8 a.m.

Ecosystem Workgroup 8 a.m.

Enforcement Consultants 2 p.m.

Day 3—Thursday, March 5, 2026

Groundfish Advisory Subpanel 8 a.m.

Groundfish Management Team 8 a.m.

Salmon Advisory Subpanel 8 a.m.

Salmon Technical Team 8 a.m.

Scientific and Statistical Committee 8 a.m.

Ecosystem Advisory Subpanel 8 a.m.

Ecosystem Workgroup 8 a.m.

Enforcement Consultants As Necessary

Day 4—Friday, March 6, 2026

Groundfish Advisory Subpanel 8 a.m.

Groundfish Management Team 8 a.m.

Salmon Advisory Subpanel 8 a.m.

Salmon Technical Team 8 a.m.

Highly Migratory Species Advisory Subpanel 8 a.m.

Highly Migratory Species Management Team 8 a.m.

Enforcement Consultants As Necessary

Day 5—Saturday, March 7, 2026

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary, Online

Day 6—Sunday, March 8, 2026

Salmon Advisory Subpanel 8 a.m.

Salmon Technical Team 8 a.m.

Enforcement Consultants As Necessary, Online

Day 7—Monday, March 9, 2026

Salmon Technical Team 8 a.m.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Hayden York (hayden.york@pcouncil.org; (503) 820-2424) at least 10 business days prior to the meeting date.

Authority: 16 U.S.C. 1801 et seq.

Dated: February 5, 2026.
Rey Israel Marquez,
Acting Deputy Director, Office of Sustainable Fisheries, National Marine Fisheries Service.

[FR Doc. 2026-02573 Filed 2-9-26; 8:45 am]

BILLING CODE 3510-22-P